DEPARTMENT OF TRANSPORTATION

Federal Aviation Administration

Notice of a Finding of No Significant Impact (FONSI) and Record of Decision (ROD) on a Final Environmental Assessment (FEA) for the Proposed Federal Action at the Macon County Airport, Franklin, NC

AGENCY: Federal Aviation Administration, DOT.

ACTION: Notice.

SUMMARY: The FAA is issuing this notice to advise the public of the approval of a FONSI/ROD on an FEA for a proposed Federal action at the Macon County Airport, Franklin, NC. The FONSI/ROD states that the proposed projects are consistent with the National Environmental Policy Act of 1969 and will not significantly affect the quality of the environment.

The FEA evaluated Macon County Airport's proposal to extend Runway 7/25 600 feet to a total length of 5,000 feet, extend the existing parallel taxiway, and construct a 300-foot runway safety area.

After reviewing the FEA, the FAA has determined that project would not significantly affect the quality of the human environment. Therefore, the preparation of an Environmental Impact Statement (EIS) is not required.

The FEA and the FONSI/ROD are available for review at:

FAA Southern Region, Atlanta Airports District Office, 1701 Columbia Avenue, Suite 2-260, College Park, GA 30337.

Macon County Courthouse, Tax Collector's Office, 5 West Main Street, Annex Bldg., Franklin, NC 28734-3005.

FOR FURTHER INFORMATION CONTACT: Parks Preston, Federal Aviation Administration, Atlanta Airports District Office, 1701 Columbia Ave., Campus Bldg., Suite 2-260, College Park, GA 30337. 404-305-7149.

Issued in College Park, Georgia on May 19, 2010.
Scott L. Seritt,
Manager, Atlanta Airports District Office.

[FR Doc. 2010-13260 Filed 6-1-10; 8:45 am]

BILLING CODE 4910-13-P